DEPARTMENT OF STATE

22 CFR Part 62

RIN 1400-AD14

[Public Notice 7902]

Exchange Visitor Program—Summer Work Travel; Correction

AGENCY: Department of State.

ACTION: Interim final rule; correction

SUMMARY: This document contains minor corrections to the Exchange Visitor Program—Summer Work Travel interim final rule published in the Federal Register on May 11, 2012. In the interim final rule the facsimile number (under the contact section), a citation to an exception to the category of prohibited jobs, and the date by which the public must submit comments were all incorrect.

DATES: Effective on May 30, 2012.

FOR FURTHER INFORMATION CONTACT: Robin J. Lerner, Deputy Assistant Secretary for Private Sector Exchange, U.S. Department of State, SA-5, Floor 5, 2200 C Street NW., Washington, DC 20522-0505; phone (202) 632-2805; fax (202) 632-2701.

SUPPLEMENTARY INFORMATION:

Correction

In the interim final rule published May 11, 2012, at 77 FR 27593, make the following corrections:

1. On page 27594, in the first column, the DATES section is revised to read as follows:

“DATES: This rule is effective May 11, 2012, with the exception of 22 CFR 62.32(h)(16) that will go into effect November 1, 2012. The Department will accept written comments from the public up to 60 days from May 11, 2012.”

2. On page 27594, in the first column, the FOR FURTHER INFORMATION CONTACT section is revised to read as follows:

“FOR FURTHER INFORMATION CONTACT: Robin J. Lerner, Deputy Assistant Secretary for Private Sector Exchange, U.S. Department of State, SA-5, Floor 5, 2200 C Street NW., Washington, DC 20522-0505; phone (202) 632-2805; fax (202) 632-2701.”

Dated: May 24, 2012.
Robin J. Lerner,
Deputy Assistant Secretary for Private Sector Exchange, Bureau of Educational and Cultural Affairs, Department of State.

[FR Doc. 2012-13098 Filed 5-29-12; 8:45 am]

BILLING CODE 4710-05-P